DEPARTMENT OF THE TREASURY

Internal Revenue Service

26 CFR Parts 1 and 301

[REG-100194-10]

RIN 1545-BJ52

Specified Tax Return Preparers Required To File Individual Income Tax Returns Using Magnetic Media; Correction

AGENCY: Internal Revenue Service (IRS), Treasury.

ACTION: Correction to notice of proposed rulemaking and notice of public hearing.

SUMMARY: This document contains a correction to a notice of proposed rulemaking (REG-100194-10) that was published in the Federal Register on Friday, December 3, 2010 (75 FR 75439). The proposed regulations provide further guidance relating to the requirement for “specified tax return prepares,”.

FOR FURTHER INFORMATION CONTACT: Keith L. Brau at (202) 622-4940 (not a toll-free number).

SUPPLEMENTARY INFORMATION:

Background

The notice of proposed rulemaking that is the subject of this document is under section 6011 of the Internal Revenue Code.

Need for Correction

As published, the notice of proposed rulemaking (REG-100194-10) contains an error that is misleading and is in need of clarification.

Correction to Publication

Accordingly, the notice of proposed rulemaking which was the subject of FR Doc. 2010-30500 is corrected as follows:

On page 75442, in the preamble, column 2, under the heading “Comments and Public Hearing”, line 17 from the bottom of the page, the language “for Tuesday, January 7, 2011 at 10 a.m.” is corrected to read “for Friday, January 7, 2011 at 10 a.m.”

Guy Traynor,
Federal Register Liaison, Publications and Regulations Branch, Legal Processing Division, Associate Chief Counsel (Procedure and Administration).

[FR Doc. 2010-31028 Filed 12-9-10; 8:45 am]

BILLING CODE 4830-01-P